DEPARTMENT OF DEFENSE

Department of the Army

Notice of Intent To Grant Exclusive Patent License to the National Center for Composite Systems Technology

AGENCY: Department of the Army, DoD.

ACTION: Notice of intent.

SUMMARY: In compliance with 37 CFR 404 et seq., the Department of the Army hereby gives notice of its intent to grant to The National Center for Composite Systems Technology, a corporation having its principle place of business at 2000 Composite Drive, Kettering, OH 45420, an exclusive relative to U.S. Army Research Laboratory (ARL) patent US 6,881,374 entitled, “Apparatus for Induction Lamination of Electrically Conductive Fiber-Reinforced Thermoplastic”; April 19, 2005, Gerhard et al.

DATES: Anyone wishing to object to the grant of this license must file written objections along with supporting evidence, if any, not later than 15 days from the date of this notice.

ADDRESSES: Send written objections to Michael D. Rausa, U.S. Army Research Laboratory, Office of Research and Technology Applications, ATTN: AMSRD-ARL-DP-T/Bldg. 434, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 06-932 Filed 1-31-06; 8:45 am]

BILLING CODE 3710-08-M